INTERNATIONAL TRADE COMMISSION

[Investigation No. 337-TA-828]

Certain Video Displays and Products Using and Containing Same; Investigations: Terminations, Modifications and Rulings

AGENCY: U.S. International Trade Commission.

ACTION: Notice.

SUMMARY: Notice is hereby given that the U.S. International Trade Commission has determined to terminate the above-captioned based on a settlement agreement between the parties. The investigation is terminated in its entirety, and the initial determination previously under review by the Commission is set aside.

FOR FURTHER INFORMATION CONTACT: Clark S. Cheney, Office of the General Counsel, U.S. International Trade Commission, 500 E Street SW., Washington, DC 20436, telephone 202-205-2661. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on February 21, 2012, based on a complaint filed by Mondis Technology, Inc., of London, England (“Mondis”). 77 FR 9964 (Feb. 21, 2012). The complaint alleges violations of section 337 of the Tariff Act of 1930, as amended (19 U.S.C. 1337) (“section 337”), by reason of infringement of U.S. Patent Nos. 6,247,090 and 7,089,342. The notice of investigation names Chimei Innolux Corporation of Taiwan and Innolux Corporation of Austin, Texas (collectively, “Innolux”), as the only respondents.

On August 1, 2012, the presiding administrative law judge (“ALJ”) granted a motion by Innolux for summary determination of no violation of section 337 and issued an initial determination (“ID”) terminating the investigation (Order No. 9). The ALJ held that an ongoing royalty order issued by the U.S. District Court for the Eastern District of Texas constitutes a license authorizing Innolux to practice the inventions and accordingly there can be no violation of section 337.

On August 16, 2012, Mondis filed a petition for the Commission to review the ID. On October 16, 2012, the Commission issued a notice stating that it had determined to review the ID.

On March 14, 2013, while the Commission was reviewing the ID, Mondis and Innolux filed a joint motion to terminate the investigation based on a settlement agreement between Mondis and Innolux. On March 25, 2013, the IA filed a response supporting termination.

The Commission has determined that the motion to terminate the investigation based on a settlement agreement complies with Commission Rule 210.21 (19 CFR 210.21). The Commission has further determined that terminating the investigation based on the settlement agreement between Mondis and Innolux is not contrary to the public interest. Accordingly, the Commission has determined to grant the joint motion and terminate the investigation in its entirety.

The issues under review by the Commission in relation to the summary determination ID (Order No. 9) are now moot in view of the parties' settlement. Since the ID was under review by the Commission and the Commission has terminated the investigation based on a settlement agreement during the period of review, the ID does not constitute a Commission determination and is hereby set aside. See Commission Rule 210.45(c) (19 CFR 210.45(c)).

The authority for the Commission's determination is contained in section 337 of the Tariff Act of 1930, as amended (19 U.S.C. 1337), and in Part 210 of the Commission's Rules of Practice and Procedure (19 CFR part 210).

By order of the Commission.
Issued: April 15, 2013.
Lisa R. Barton,
Acting Secretary to the Commission.

[FR Doc. 2013-09184 Filed 4-18-13; 8:45 am]

BILLING CODE 7020-02-P